CORPORATION FOR NATIONAL AND COMMUNITY SERVICE

New Information Collection; Submission for OMB Review; Comment Request

AGENCY: Corporation for National and Community Service.

ACTION: Notice.

SUMMARY: The Corporation for National and Community Service (hereinafter the “Corporation”), has submitted a proposed new public information collection request (ICR) entitled the VISTA-Points of Light Foundation Strengthening Communities Initiative Volunteer Center and Community Partner Surveys to the Office of Management and Budget (OMB) for review and approval in accordance with the Paperwork Reduction Act of 1995 (Pub. L. 104-13), (44 U.S.C. Chapter 35). Copies of this ICR, with applicable supporting documentation, may be obtained by calling the Corporation for National and Community Service, Kelly Arey, (202) 606-5000, ext. 197. Individuals who use a telecommunications device for the deaf (TTY-TDD) may call (202) 565-2799 between 8:30 a.m. and 5 p.m. Eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in the Federal Register:

(1) By fax to: (202) 395-6974, Attention: Ms. Katherine Astrich, OMB Desk Officer for the Corporation for National and Community Service; and

(2) Electronically by e-mail to: Katherine_Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on February 28, 2005. This comment period ended on April 29, 2005. No public comments were received.

Description: Through this proposed data collection of Volunteer Centers and their community partners, the Corporation seeks to conduct an assessment of the implementation of the Points of Light Foundation (POLF) Strengthening Communities Initiative and the current needs of these organizations. The data collection will utilize two surveys to collect information from the Volunteer Centers and their community partners: VISTA-POLF Strengthening Communities Initiative Volunteer Center Survey and VISTA-POLF Strengthening Communities Initiative Community Partner Survey.

The information will be collected electronically through online survey forms. An attempt will be made by the Corporation to collect and record verbal responses for those respondents who do not complete the online survey form. The data from these reports, along with evaluation data generated by other Corporation-funded studies, will be used in assessing the degree to which Corporation policies are promoting growth and expansion of volunteer recruitment and management capacity within volunteer centers and community-based nonprofit organizations. The results of these analyses will be used in determining training and technical assistance priorities for the Corporation and in refining grant guidelines to promote program effectiveness.

Type of Review: New.

Agency: Corporation for National and Community Service.

Title: VISTA-Points of Light Foundation Strengthening Communities Initiative Volunteer Center and Community Partner Surveys.

OMB Number: None.

Agency Number: None.

Affected Public: Non-profit institutions.

Total Respondents: 128.

Frequency: On occasion.

Average Time Per Response: 10 minutes.

Estimated Total Burden Hours: 21.3.

Total Burden Cost (capital/startup): None.

Total Burden Cost (operating/maintenance): None.

Dated: June 2, 2005.
Robert Grimm,
Director, Research and Policy Development.

[FR Doc. 05-11354 Filed 6-7-05; 8:45 am]

BILLING CODE 6050-$$-P